INTERNATIONAL TRADE COMMISSION

[Investigation No. 731-TA-1022 (Fourth Review)]

Refined Brown Aluminum Oxide From China

Determination

On the basis of the record ¹ developed in the subject five-year review, the United States International Trade Commission (“Commission”) determines, pursuant to the Tariff Act of 1930 (“the Act”), that revocation of the antidumping duty order on refined brown aluminum oxide from China would be likely to lead to continuation or recurrence of material injury to an industry in the United States within a reasonably foreseeable time.

¹ The record is defined in § 207.2(f) of the Commission's Rules of Practice and Procedure (19 CFR 207.2(f)).

Background

The Commission instituted this review on February 3, 2025 (90 FR 8812, February 3, 2025) and determined on May 9, 2025, that it would conduct an expedited review (90 FR 22113, May 23, 2025).

The Commission made this determination pursuant to section 751(c) of the Act (19 U.S.C. 1675(c)). It completed and filed its determination in this review on July 3, 2025. The views of the Commission are contained in USITC Publication 5645 (July 2025), entitled Refined Brown Aluminum Oxide from China: Investigation No. 731-TA-1022 (Fourth Review).

By order of the Commission.
Issued: July 3, 2025.
Lisa Barton,
Secretary to the Commission.

[FR Doc. 2025-12665 Filed 7-7-25; 8:45 am]

BILLING CODE 7020-02-P